DEPARTMENT OF COMMERCE

Foreign-Trade Zones Board

[Docket 34-2001]

Foreign-Trade Zone 40—Cleveland, Ohio; Request for Manufacturing Authority; HMI Industries Inc. (High Filtration Vacuum and Air Cleaners)

An application has been submitted to the Foreign-Trade Zones Board (the Board) by the Cleveland-Cuyahoga County Port Authority, grantee of FTZ 40, on behalf of HMI Industries Inc. (HMI), requesting authority to manufacture vacuum and air cleaners under FTZ procedures within FTZ 40—Site 8. The application was formally filed on July 31, 2001.

The application requests authority on behalf of HMI to manufacture high filtration vacuum and air cleaners under zone procedures within FTZ 40—Site 8, Strongsville Industrial Park, Royalton Road (State Route 82), Strongsville, Ohio. The HMI facility (117 employees) is located at 13325 Darice Parkway, Unit A (1 bldg., 80,000 sq. ft.).

HMI is currently using FTZ procedures for the warehouse and distribution operations at this facility. The facility is also used for the manufacture of high filtration vacuum surface and air cleaning devices (HTS 8509 and 8421, duty free). Components and materials sourced from abroad (representing about 30% of all parts consumed in manufacturing) include: AC/DC motors; paper sacks and bags; insulated copper conductors and other insulated conductors; flexible plastic tubes, pipes and hoses and their plastic fittings; metal casters; aluminum casting articles; and vacuum cleaners, housings and parts (HTS 8501.2060, 8501.2040, 8509.9015, 8509.1000, 4819.4000, 8544.5190, 8544.5920, 3917.3900, 3917.4000, 8302.2000, 7616.9950, 8509.9005, duty rates range from duty-free to 5.7%, weighted average—1%).

FTZ procedures would exempt HMI from Customs duty payments on the foreign components used in export production. Nearly 70 percent of the plant's shipments are exported. On its domestic sales, HMI would be able to choose the duty rates during Customs entry procedures that apply to finished vacuum and air cleaners (duty-free) for the foreign inputs noted above. The company would also be exempt from duty payments on foreign merchandise that becomes scrap/waste. The application indicates that savings from zone procedures would help improve the plant's international competitiveness.

In accordance with the Board's regulations, a member of the FTZ staff has been designated examiner to investigate the application and report to the Board.

Public comment on the application is invited from interested parties. Submissions (original and three copies) shall be addressed to the Board's Executive Secretary at the address below.

The closing period of their receipt is October 9, 2001. Rebuttal comments in response to material submitted during the foregoing period may be submitted during the subsequent 15-day period to October 24, 2001.

A copy of the application and the accompanying exhibits will be available for public inspection at the following locations:

U.S. Department of Commerce, Export Assistance Center, 600 Superior Avenue, East #700, Cleveland, OH 44114.

Office of the Executive Secretary, Foreign-Trade Zones Board, Room 4008, U.S. Department of Commerce, 14th & Pennsylvania Avenue, NW, Washington, DC 20230.

Dated: August 2, 2001.
Dennis Puccinelli,
Executive Secretary.

[FR Doc. 01-19913 Filed 8-7-01; 8:45 am]

BILLING CODE 3510-DS-P